NATIONAL SCIENCE FOUNDATION

Proposal Review Panel for Physics; Notice of Meeting

In accordance with the Federal Advisory Committee Act (Pub. L. 92-463, as amended), the National Science Foundation (NSF) announces the following meeting:

Name: Proposal Review Panel for the Division of Physics (1208) (V171446)—JINA-CEE Site Visit.

Date and Time:

April 24, 2017; 8:30 a.m.-9:00 p.m.

April 25, 2017; 8:30 a.m.-4:00 p.m.

Place: Michigan State University, East Lansing, MI 48824-1321.

Type of Meeting: Part-Open.

Contact Person: Jean Cottam-Allen, Program Director for Physics Frontier Centers, Division of Physics, National Science Foundation, 4201 Wilson Blvd., Room 1015, Arlington, VA 22230; Telephone: (703) 292-8783.

Purpose of Meeting: Site visit to provide an evaluation of the progress of the projects at the host site for the Division of Physics at the National Science Foundation.

Agenda

April 24, 2017; 8:30 a.m.-9:00 p.m.

8:30 a.m.-12:00 p.m. Panel Session: Presentations on Center Overview, Management and Science

12:00 p.m.-1:30 p.m. Lunch with Graduate Students and Postdocs

1:30-4:00 p.m. Panel Session: Continued Science Presentations, Education and Outreach

4:00 p.m.-5:00 p.m. Executive Session—CLOSED SESSION

5:00 p.m.-7:00 p.m. Poster Session

7:00 p.m.—9:00 p.m. Executive Session—CLOSED SESSION

April 25, 2017; 8:30 a.m.-4:00 p.m.

8:30 a.m.-10:30 a.m. Meeting with University Administrators

11:00 a.m.-12:00 p.m. Discussion with Center Directors

12:00 p.m.-3:00 p.m. Executive Session—CLOSED SESSION

3:00 p.m.-4:00 p.m. Closeout Session with Center Directors

Reason for Closing: Topics to be discussed and evaluated during closed portions of the site review will include information of a proprietary or confidential nature, including technical information and information on personnel. These matters are exempt under 5 U.S.C. 552b(c), (4) and (6) of the Government in the Sunshine Act.

Dated: March 7, 2017.
Crystal Robinson,
Committee Management Officer.

[FR Doc. 2017-04732 Filed 3-9-17; 8:45 am]

BILLING CODE 7555-01-P